DEPARTMENT OF DEFENSE

Department of the Army, Corps of Engineers

Notice of Intent To Prepare a Tiered Environmental Impact Statement for the New York New Jersey Harbor and Tributaries Coastal Storm Risk Management Feasibility Study

AGENCY: U.S. Army Corps of Engineers, DOD.

ACTION: Notice of intent.

SUMMARY: Pursuant to the requirements of section 102(2)(C) of the National Environmental Policy Act (NEPA), the U.S. Army Corps of Engineers, New York District (Corps) is preparing an integrated Feasibility Report/Tiered Environmental Impact Statement (EIS) for the proposed New York New Jersey Harbor and Tributaries Coastal Storm Risk Management Feasibility Study (NYNJHAT). The study is assessing the feasibility of coastal storm risk management alternatives to be implemented within the authorized study area with a specific emphasis on the New York New Jersey Harbor, including Raritan Bay, the tidally-affected stretches of the Passaic and Hackensack Rivers, and the Hudson River to Troy, New York.

ADDRESSES: Pertinent information about the study can be found at: http://www.nan.usace.army.mil/Missions/Civil-Works/Projects-in-New-York/New-York-New-Jersey-Harbor-Tributaries-Focus-Area-Feasibility-Study/.

Interested parties are welcome to send written comments and suggestions concerning the scope of issues to be evaluated within the Tiered EIS to Nancy J. Brighton, Chief, Watershed Section, Environmental Analysis Branch, Planning Division, U.S. Army Corps of Engineers, New York District, 26 Federal Plaza, New York, Room 2151, NY 10279-0090; Phone: (917) 790-8703; email: Nancy.J.Brighton@usace.army.mil.

FOR FURTHER INFORMATION CONTACT: Questions about the overall NYNJHAT study should be directed to Bryce Wisemiller, Project Manager, U.S. Army Corps of Engineers, New York District, Programs and Project Management Division, Civil Works Programs Branch, 26 Federal Plaza, Room 2127, New York, NY 10279-0090; Phone: (917) 790-8307; email: Bryce.W.Wisemiller@usace.army.mil.

SUPPLEMENTARY INFORMATION:

1. Background

The U.S. Army Corps of Engineers (Corps), in partnership with the New York State Department of Environmental Conservation (NYSDEC) and the New Jersey Department of Environmental Protection (NJDEP) as the non-federal sponsors, are undertaking this study. In addition, the City of New York is a non-federal partner. The NYNJHAT study area, which encompasses the New York metropolitan area, is highly vulnerable to damage from coastal storm surge, wave attack, erosion, and intense rainfall-storm water runoff events that cause riverine or inland flooding, which can exacerbate coastal flooding. The NYNJHAT study is authorized under Public Law 84-71, June 15, 1955 (69 Stat. 132) to conduct an investigation into potential coastal storm risk management solutions. A Feasibility Cost Sharing Agreement (FCSA) was executed in 2016 with the NYSDEC and NJDEP.

2. Study Area

The study area encompasses approximately 2,150 square miles and includes parts of Bergen, Passaic, Morris, Essex, Hudson, Union, Somerset, Middlesex, and Monmouth Counties in New Jersey and Rensselaer, Albany, Columbia, Greene, Duchess, Ulster, Putnam, Orange, Westchester, Rockland, Bronx, New York, Queens, Kings, Richmond, and Nassau Counties in New York. The study area extends upstream of the Hudson River to the federal lock and dam at Troy, New York, the Passaic River to the Dundee Dam, and the Hackensack River to the Oradell Reservoir.

3. Public Participation

The Corps, the NYSDEC and the NJDEP hosted three agency workshop meetings in January and February 2017, with representatives from federal and state agencies, as well as representatives from local agencies and towns. The Corps, NYSDEC and NJDEP are anticipating hosting a NEPA Scoping Meetings in March and April 2018. Public notices announcing the meeting date, time, location and agenda will be published in the appropriate local newspapers, municipality web pages, and the Corps' New York District web page (see STUDY WEB PAGE and ADDRESSES above) and will be distributed to the local stakeholders and known interested parties.

A scoping comment period of 30 days will be established from the scheduled date of the meeting to allow agencies, organizations and individuals to submit comments, questions and/or concerns regarding the Feasibility Study. Comments, concerns and information submitted to the Corps will be evaluated and considered during the development of the Draft EIS.

Lead and Cooperating Agencies

The U.S. Army Corps of Engineers is the lead federal agency for the preparation of a Tiered Environmental Impact Statement (EIS) in order to meet the requirements of the NEPA and the NEPA Implementing Regulations of the President's Council on Environmental Quality (40 CFR 1500-1508). The Corps has invited the U.S. Coast Guard, the U.S. Environmental Protection Agency, the U.S. Fish and Wildlife Service, the National Marine Fisheries Service, the National Park Service, and the Federal Emergency Management Agency to be Cooperating or Participating Agencies on this study. The preparation of a Tiered EIS will be coordinated with New York State, New Jersey State and local municipalities with discretionary authority relative to the proposed actions. The Draft integrated Feasibility Report/Tiered EIS is currently scheduled for distribution to the public Summer 2018.

Dated: February 6, 2018.
Peter M. Weppler,
Chief, Environmental Analysis Branch, Planning Division.

[FR Doc. 2018-02874 Filed 2-12-18; 8:45 am]

BILLING CODE 3720-58-P